DEPARTMENT OF LABOR

Employment and Training Administration

[TA-W-60,859]

Eaton Corporation Aerospace Division Including Workers Whose Wages Are Reported Under FEID Number for Perkin Elmer Including On-Site Leased Workers From Aerotek, Kelly Services, Otterbase, and Adecco Phelps, New York and TA-W-60,859A Eaton Corporation, Aerospace Division Employee of Phelps, New York Working Out of Beltsville, Maryland; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification Regarding Eligibility to Apply for Worker Adjustment Assistance and Alternative Trade Adjustment Assistance on February 28, 2007, applicable to workers at Eaton Corporation, Aerospace Division, in Phelps, New York. The notice was published in the Federal Register on March 14, 2007 (72 FR 11904).

At the request of a company official, the Department reviewed the certification for workers of the subject firm. The workers are engaged in the production of solenoid valves.

The company official reports that Ms. Susan Whitledge was an employee of the Eaton Corporation, Aerospace Division in Phelps, New York, and worked off-site at the company's Beltsville, Maryland facility. Ms. Whitledge was among the workers of the firm's Aerospace Division in Phelps, New York, who were separated from employment based on a shift in production of solenoid valves to Mexico.

The intent of the Department's certification is to include all workers of Eaton Corporation, Aerospace Division, in Phelps, New York, who were adversely affected by the shift in production to Mexico.

Accordingly, the Department is amending the certification to include Ms. Whitledge, an employee of the Eaton Corporation, Aerospace Division in Phelps, New York, working out of Beltsville, Maryland.

The amended notice applicable to TA-W-60,859 is hereby issued as follows:

All workers of Eaton Corporation, Aerospace Division, including workers whose wages were reported under FEID number for Perkin Elmer, including on-site leased workers from Aerotek, Kelly Services, Otterbase, and Adecco, Phelps, New York (TA-W-60,859), and an employee of Eaton Corporation Aerospace Division, Phelps, New York working out of Beltsville, Maryland (TA-W-60,859A), who became totally or partially separated from employment on or after January 30, 2006 through February 28, 2009, are eligible to apply for adjustment assistance under Section 223 of the Trade Act of 1974; and

I further determine that all workers of Eaton Corporation, Aerospace Division, including workers whose wages were reported under FEID number for Perkin Elmer, including on-site leased workers from Aerotek, Kelly Services, Otterbase, and Adecco, Phelps, New York (TA-W-60,859), and an employee of Eaton Corporation Aerospace Division, Phelps, New York working out of Beltsville, Maryland (TA-W-60,859A), are denied eligibility to apply for alternative trade adjustment assistance under Section 246 of the Trade Act of 1974.

Signed in Washington, DC, this 8th day of August 2007.
Linda G. Poole,
Certifying Officer, Division of Trade Adjustment Assistance.

[FR Doc. E7-16284 Filed 8-17-07; 8:45 am]

BILLING CODE 4510-FN-P